ENVIRONMENTAL PROTECTION AGENCY

[Docket ID No. EPA-HQ-ORD-2008-0111 & EPA-HQ-ORD-2008-0315; FRL-8577-5]

Draft Toxicological Review of Cerium Oxide and Cerium Compounds and Beryllium and Compounds: In Support of the Summary Information in the Integrated Risk Information System (IRIS); Correction

AGENCY: Environmental Protection Agency.

ACTION: Notice of listening session; correction.

SUMMARY: The Environmental Protection Agency published notices in the Federal Register on June 3 and June 4, 2008, announcing listening sessions for the Draft Toxicological Review of Cerium Oxide and Cerium Compounds (73 FR 31683, June 3, 2008) and the Draft Toxicological Review of Beryllium and Compounds (73 FR 31861, June 4, 2008). The documents contained an incorrect telephone number for Ms. Christine Ross in the ADDRESSES and FOR FURTHER INFORMATION CONTACT sections.

Correction

In the Federal Register of June 3, 2008, on page 31683, in the third column, in the ADDRESSES section, and on page 31684, in the first column, in the “Information on Services for Individuals with Disabilities” and the FOR FURTHER INFORMATION CONTACT sections, the correct telephone number for Ms. Christine Ross is 703-347-8592.

In the Federal Register of June 4, 2008, on page 31861, in the third column, in the ADDRESSES section, and on page 31862, in the first column, in the “Information on Services for Individuals with Disabilities” and the FOR FURTHER INFORMATION CONTACT sections, the correct telephone number for Ms. Christine Ross is 703-347-8592.

Dated: June 4, 2008.
Peter W. Preuss,
Director, National Center for Environmental Assessment.

[FR Doc. E8-12998 Filed 6-9-08; 8:45 am]

BILLING CODE 6560-50-P